DEPARTMENT OF ENERGY

Federal Energy Regulatory Commission

[Project No. 3603-018]

City of Aspen; Notice of Revised Schedule for Environmental Assessment

On September 25, 2024, as supplemented on May 20, 2025, City of Aspen filed an application Non-capacity Amendment of License for the Ruedi Hydroelectric Project No. 3603. The project is located at the Ruedi Dam and reservoir of the U.S. Department of Interior's Bureau of Reclamation on the Fryingpan River in Pitkin and Eagle counties, Colorado.

The licensee proposes to build a 22 by 28-foot powerhouse, add an additional 110 feet of new 30-inch penstock, install a second turbine and generator unit with the capacity of 1.2 Megawatt, construct a new 48 by 48-inch, 60-foot concrete tailrace, add a 24-inch diameter bypass line within the powerhouse, and modernize the electrical system. The licensee states that all the modifications are within the existing project boundary.

On July 29, 2025, the Commission issued a Notice of Intent that informed the public that Commission staff plans to issue an Environmental Assessment (EA) ¹ by August 5, 2026. Commission staff is revising the schedule to issue an EA by March 27, 2026. The EA will be issued for a 30-day comment period. Revisions to the schedule may be made as appropriate. All comments filed on the EA will be reviewed by staff and considered in the Commission's final decision on the proceeding.

¹ The unique identification number for documents relating to this environmental review is EAXX-019-20-000-1750060234.

For public inquiries and assistance with making filings such as interventions, comments, or requests for rehearing, contact the Office of Public Participation at (202) 502-6595 or OPP@ferc.gov.

Any questions regarding this notice may be directed to Maryam Akhavan at (202) 502-6110 or Maryam.Akhavan@ferc.gov.

(Authority: 18 CFR 2.1)

Dated: February 11, 2026.
Debbie-Anne A. Reese,
Secretary.

[FR Doc. 2026-03115 Filed 2-17-26; 8:45 am]

BILLING CODE 6717-01-P